DEPARTMENT OF ENERGY

Federal Energy Regulatory Commission

[Project No. 2376-052]

Eagle Creek Reusens Hydro, LLC; Notice of Application Accepted for Filing and Soliciting Motions To Intervene and Protests

Take notice that the following hydroelectric application has been filed with the Commission and is available for public inspection.

a. Type of Application: New Major License.

b. Project No.: 2376-052.

c. Date filed: February 28, 2022.

d. Applicant: Eagle Creek Reusens Hydro, LLC (Reusens Hydro).

e. Name of Project: Reusens Hydroelectric Project (Reusens Project or project).

f. Location: The project is located on the James River in Bedford and Amherst Counties, Virginia.

g. Filed Pursuant to: Federal Power Act 16 U.S.C. 791(a) through 825(r).

h. Applicant Contact: Ms. Joyce Foster, Director, Licensing and Compliance Eagle Creek Renewable Energy, LLC, 7315 Wisconsin Avenue, Suite 1100W, Bethesda, MD 20814; Phone at (804) 338-5110 or email at Joyce.Foster@eaglecreekre.co; and Ms. Jody Smet, Vice President, Regulatory Affairs, Eagle Creek Renewable Energy, LLC, 7315 Wisconsin Ave., Suite 1100W, Bethesda, MD 20814; Phone at (240) 482-2700 or email at jody.smet@eaglecreekre.com.

i. FERC Contact: Laurie Bauer at (202) 502-6519, or laurie.bauer@ferc.gov.

j. Deadline for filing motions to intervene and protests: 60 days from the issuance date of this notice.

The Commission strongly encourages electronic filing. Please file motions to intervene and protests using the Commission's eFiling system at https://www.ferc.gov/docs-filing/efiling.aspx. For assistance, please contact FERC Online Support at FERCOnlineSupport@ferc.gov, (866) 208-3676 (toll free), or (202) 502-8659 (TTY). In lieu of electronic filing, you may send a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Reusens Hydroelectric Project (P-2376-052).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The Reusens Project consists of: (1) a 24-foot-high, 416-foot-long concrete dam and spillway containing eight 16.75-foot-high, 44-foot-wide floodgates; (2) a 25-foot-high concrete curved auxiliary spillway; (3) a 500-acre impoundment with a gross storage capacity of 6,869 acre-feet at the normal pool elevation of 550.7 feet National Geodetic Vertical Datum of 1929; (4) an intake section of Powerhouse A containing three 6.83-foot-wide, 17.92-foot-high steel, concrete, and timber gates and Powerhouse B containing two 6.67-foot-wide, 17.5-foot-high timber gates; (5) a 105.5-foot-long, 83-foot-wide, 86-foot-high steel frame, concrete and brick Powerhouse A containing three vertical Francis turbine-generator units with a total installed capacity of 7.5 megawatts (MW); (5) a 55-foot-long, 27-foot-wide, 84-foot-high steel frame, concrete and brick Powerhouse B containing two vertical Francis turbine-generator units with a total installed capacity of 5 MW; (6) a 100-foot-wide, 250-foot-long tailrace below Powerhouse A; (7) a 60-foot-wide, 50-foot-long tailrace below Powerhouse B; (8) a 280-foot-long transmission line to three 5,210 kilovolt-ampere 4/34.5 kilovolt step-up transformers which are connected to the grid via a 24-foot-long overhead line; and (9) appurtenant facilities.

The Reusens Project operates in a peaking mode with an average annual generation of 22,504 megawatt-hours between 2018 and 2021.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments | January 2025.
Scoping Document 1 comments due | February 2025.
Request Additional Information (if necessary) | March 2025.
Issue Scoping Document 2 (if necessary) | March 2025.
Issue Notice of Ready for Environmental Analysis | March 2025.

Dated: November 15, 2024.
Debbie-Anne A. Reese,
Secretary.

[FR Doc. 2024-27355 Filed 11-21-24; 8:45 am]

BILLING CODE 6717-01-P